NATIONAL SCIENCE FOUNDATION

45 CFR Part 674

Antarctic Meteorites

AGENCY: National Science Foundation (NSF).

ACTION: Proposed rule.

SUMMARY: NSF proposes issuing regulations authorizing the collection of meteorites in Antarctica for scientific research purposes only. In addition, the regulations provide requirements for appropriate collection, handling, and curation of Antarctic meteorites to preserve their scientific value. These regulations implement Article 7 of the Protocol on Environmental Protection to the Antarctic Treaty and are issued pursuant to Section 6 of the Antarctic Conservation Act, as amended by the Antarctic Science, Tourism and Conservation Act of 1996.

DATES: Comments must be received by October 28, 2002.

ADDRESSES: Comments should be sent to Anita Eisenstadt, Assistant General Counsel, National Science Foundation, 4201 Wilson Boulevard, Room 1265, Arlington, Virginia 22230.

FOR FURTHER INFORMATION CONTACT: Anita Eisenstadt, Office of the General Counsel, at 703-292-8060.

SUPPLEMENTARY INFORMATION:

Background

Antarctic meteorites are a valuable non-renewable scientific resource that provide unique and important information about the origin and evolution of the solar system. A large number of meteorites representing many different meteorite classes have been collected in Antarctica since the late 1970's. These collections are possible because meteorites are easy to see on the light colored background of snow and ice and because dynamic processes of Antarctic ice fields result in accumulation of meteorites in certain zones on the ice sheet. The meteorites are generally well preserved because of the cold and dry conditions, and represent falls over the last several million years. Because of these conditions, the meteorites collected from Antarctic ice fields represent the most unbiased sampling possible, in terms of class or type of meteorite.

The National Science Foundation (NSF) is the single-point manager of the United States Antarctic Program and supports a wide range of scientific research in the Antarctic. Over the past twenty-five years, a partnership between NSF, the National Aeronautics and Space Administration (NASA), and the Smithsonian Institution has facilitated the collection of Antarctic meteorites and their curation in support of scientific research. NSF supports the collection of meteorites through the Antarctic Search for Meteorites (ANSMET) Program. The meteorites are characterized by joint efforts of NASA and the Smithsonian Institution and they are curated in facilities at the Johnson Space Center (NASA) and at National Museum of Natural History (Smithsonian Institution). NASA publishes characterizations of the samples on the web and in newsletters (Antarctic Meteorite Newsletter), and samples are made available in a timely manner to scientific researchers.

The United States is a Party to the Protocol on Environmental Protection to the Antarctic Treaty, done at Madrid on October 4, 1991. Article 7 of the Protocol provides that “any activity relating to mineral resources, other than scientific research, shall be prohibited.” The Antarctic Conservation Act (ACA), (16 U.S.C. 2401 et seq.) as amended by the Antarctic Science, Tourism and Conservation Act of 1996 (ASTCA) (Public Law 104-227), implements the Protocol on Environmental Protection. Section 6 of the ACA, as amended by the ASTCA, directs the Director of the National Science Foundation to issue such regulations as are necessary and appropriate to implement the Protocol and the ACA. These regulations implement U.S. obligations under Article 7 of the Protocol by ensuring that meteorites in Antarctica are only collected for scientific research purposes.

In order to maximize their potential scientific value, meteorites must be collected and curated in a fashion that maximizes the information available about the meteorites and minimizes contamination as well as physical and chemical degradation. Proper curation includes making the meteorites available to bona fide scientific researchers on an impartial and timely basis.

Summary of Provisions

NSF is adding a new part 674 to its regulations to regulate the collection and curation of meteorites in Antarctica. Under the regulations, U.S. persons may collect meteorites in Antarctica only for scientific research purposes. U.S. expedition organizers who plan to collect meteorites in Antarctica are required to ensure that any meteorites collected in Antarctica after the effective date of the regulations are properly collected and handled and that appropriate arrangements have been made for the curation of any specimens collected.

The expedition organizer must submit a plan to the National Science Foundation which provides details on the procedures that will be put in place and followed to protect the scientific value of meteorite collections. The plan will need to address collection, handling, and curation procedures for any specimens collected. The plan must be submitted to the Foundation 90 days prior to the planned departure date of the expedition. NSF will solicit comments on the plan and provide an assessment of the adequacy of the plan within 45 days of receipt of the plan.

Determinations

NSF has determined, under the criteria set forth in Executive Order 12866, that this rule is not a significant regulatory action requiring review by the Office of Information and Regulatory Affairs. The proposed rule is not a major rule under the Congressional Review Act. The Unfunded Mandate Reform Act of 1995 (Public Law 104-4), in sections 202 and 205, requires that agencies prepare analytic statements before proposing any rule that may result in annual expenditures of $100 million by State, local, Indian Tribal governments, or the private sector. Since this rule will not result in expenditures of this magnitude, it is hereby certified that such statements are not necessary. As required by the Regulatory Flexibility Act, it is hereby certified this rule will not have significant impact on a substantial number of small businesses.

The Paperwork Reduction Act of 1995 (44 U.S.C. 3501 et seq.) and its implementing regulations, 5 CFR part 1320, do not apply to the proposed rule because there are less than ten U.S. entities which annually organize expeditions to Antarctica for the purpose of collecting meteorites. Finally, NSF has reviewed this rule in light of section 2 of Executive Order 12778 and I certify for the National Science Foundation that this rule meets the applicable standards provided in sections 2(a) and 2(b) of that order.

List of Subjects in 45 CFR Part 674

Antarctica, Meteorites, Research.

Dated: August 16, 2002.
Lawrence Rudolph,
General Counsel, National Science Foundation.

For the reasons set forth in the preamble, the National Science Foundation proposes to add 45 CFR part 674 to read as follows:

PART 674—ANTARCTIC METEORITES

Sec.
674.1 Purpose of regulations.
674.2 Scope and applicability.
674.3 Definitions.
674.4 Restrictions on collection of meteorites in Antarctica.
674.5 Requirements for collection, handling, documentation and curation of Antarctic meteorites.
674.6 Submission of information to NSF.
674.7 Exception for serendipitous finds.

Authority: 16 U.S.C. 2401 et seq.

§ 674.1 Purpose of regulations.

The purpose of the regulations in this part is to implement the Antarctic Conservation Act of 1978, as amended by the Antarctic Science, Tourism and Conservation Act of 1996 (16 U.S.C. 2401 et seq.), and Article 7 of the Protocol on Environmental Protection to the Antarctic Treaty done at Madrid on October 4, 1991. Specifically, this part is designed to ensure meteorites in Antarctica will be collected for scientific research purposes only and that U.S. expedition organizers to Antarctica who plan to collect meteorites in Antarctica will ensure that any specimens collected will be properly collected, handled, documented and curated to preserve their scientific value.

§ 674.2 Scope and applicability.

This part applies to any person who collects meteorites in Antarctica. The requirements of § 674.5 apply to any person organizing an expedition to or within Antarctica for which the United States is required to give advance notice under Paragraph (5) of Article VII of the Antarctic Treaty where one of the purposes of the expedition is to collect meteorites in Antarctica. The requirements in this Part only apply to the collection of meteorites in Antarctica after [the effective date of the final regulation].

§ 674.3 Definitions.

In this part:

Antarctica means the area south of 60 degrees south latitude.

Expedition means an activity undertaken by one or more persons organized within or proceeding from the United States to or within Antarctica for which advance notification is required under Paragraph 5 of Article VII of the Antarctic Treaty.

Incremental cost is the extra cost involved in sharing the samples with other researchers. It does not include the initial cost of collecting the meteorites in Antarctica or the cost of maintaining the samples in a curatorial facility.

Person has the meaning given that term in section 1 of title 1, United States Code, and includes any person subject to the jurisdiction of the United States.

§ 674.4 Restrictions on collection of meteorites in Antarctica.

No person may collect meteorites in Antarctica for other than scientific research purposes.

§ 674.5 Requirements for collection, handling, documentation, and curation of Antarctic meteorites.

(a) Any person organizing an expedition to or within Antarctica, where one of the purposes of the expedition is to collect meteorites in Antarctica, shall ensure that the meteorites will be properly collected, documented, handled, and curated to preserve their scientific value. Curation includes making specimens available to bona fide scientific researchers on a timely basis, in accordance with specified procedures.

(b) Expedition organizers described in paragraph (a) of this section shall develop and implement written procedures for the collection, documentation, and curation of specimens which include the following components:

(1) Handling requirements. Handling procedures shall ensure that the specimens are properly labeled and handled to minimize the potential for contamination from the point of collection to the point of curation. At a minimum, handling procedures shall include:

(i) Handling the samples with Teflon or polyethylene coated implements (or equivalent);

(ii) Double bagging of samples in Teflon or polyethylene (or equivalent) bags;

(iii) Securely attaching a sample identifier to the bag;

(iv) Keeping the samples frozen at or below −15C until opened and thawed in a clean laboratory setting at the curation facility; and

(v) Thawing in a clean, dry nitrogen environment.

(2) Sample documentation. Documentation for each specimen, that includes, at a minimum:

(i) A unique identifier for the sample;

(ii) The date of find;

(iii) The date of collection (if different from date of find);

(iv) The latitude and longitude to within 500 meters of the location of the find and the name of the nearest named geographical feature;

(v) The name, organizational affiliation, and address of the finder or the expedition organizer;

(vi) A physical description of specimen and of the location of the find; and

(vii) Any observations of the collection activity, such as potential contamination of the specimen.

(3) Curation. Make prior arrangements to ensure that any specimens collected in Antarctica will be maintained in a curatorial facility that will:

(i) Preserve the specimens in a manner that precludes chemical or physical degradation;

(ii) Produce an authoritative classification of the meteorite that contains enough information to group an individual meteorite into an established chemical and petrological type;

(iii) Develop and maintain curatorial records associated with the meteorites including collection information, authoritative classification, total known mass, information about handling and sample preparation activities that have been performed on the meteorite, and sub-sample information;

(iv) Submit an appropriate summary of information about the meteorites to the Antarctic Master Directory via the National Antarctic Data Coordination Center as soon as possible, but no later than two years after receipt of samples at the curatorial facility;

(v) Submit information on classification of the meteorite to an internationally recognized meteorite research catalog, such as the “Catalogue of Meteorites” published by the Natural History Museum of London or the “Meteoritical Bulletin” published by the Meteoritical Society;

(vi) Specify procedures by which requests for samples by bonafide scientific researchers will be handled;

(vii) Make samples available to bonafide scientific researchers at no more than incremental cost and within a reasonable period of time; and

(viii) In the event that the initial curatorial facility is no longer in a position to provide curation services for the specimens, or believes that the meteorites no longer merit curation, it shall consult with the National Science Foundation's Office of Polar Programs to identify another appropriate curatorial facility, or to determine another appropriate arrangement.

§ 674.6 Submission of information to NSF.

A copy of the written procedures developed by expedition organizers pursuant to § 674.5(b) shall be furnished to the National Science Foundation's Office of Polar Programs at a minimum of 90 days prior to the planned departure date of the expedition for Antarctica. NSF shall publish a notice of availability of the plan in the Federal Register that provides for a 15 day comment period. NSF shall evaluate the procedures in the plan to determine if they are sufficient to ensure that the meteorites will be properly collected, handled, documented, and curated. NSF shall provide comments on the adequacy of the plan within 45 days of receipt. If NSF advises the expedition organizer that the procedures satisfy the requirements of § 674.5 and the procedures are implemented, the expedition organizer will have satisfied the requirements of this Part.

§ 674.7 Exception for serendipitous finds.

A person who makes a serendipitous discovery of a meteorite in Antarctica which could not have been reasonably anticipated, may collect the meteorite for scientific research purposes, provided that the meteorite is collected in the manner most likely to prevent contamination under the circumstances, and provided that the meteorite is otherwise handled, documented and curated in accordance with the requirements of § 674.5.

[FR Doc. 02-21621 Filed 8-26-02; 8:45 am]

BILLING CODE 7555-01-P